DEPARTMENT OF DEFENSE

Department of the Army

32 CFR Part 644

[Docket ID: USA-2019-HQ-0009]

RIN 0702-AA94

Real Estate Handbook

AGENCY: Department of the Army, DoD.

ACTION: Final rule.

SUMMARY: This final rule removes Department of the Army's regulation containing the real estate procedures of the United States Corps of Engineers governing all military and civil works projects. The rule is being removed because its content is internal to the Department, and current policy is maintained in an internal Engineering Regulation used by Corps of Engineers personnel.

DATES: Effective July 22, 2019.

ADDRESSES: Department of the Army, Office of the Deputy Chief of Staff, G-1, DAPE-HR, 200 Army Pentagon, Washington, DC 20310-0300.

FOR FURTHER INFORMATION CONTACT: Ms. Cheryl Moman, (703) 325-0050.

SUPPLEMENTARY INFORMATION: This final rule removes the Department of Army regulation at 32 CFR part 644 which was codified on January 15, 1979 (44 FR 3168) and has not since been updated. The content of the rule is internal to the Department, and current internal policy and procedures are maintained in Army Corps of Engineers Regulation ER 405-1-12, which is not available to the public and was most recently updated on September 30, 1994.

It has been determined that publication of this CFR part removal for public comment is impracticable, unnecessary, and contrary to public interest since it is based on removing internal Army policy and procedures.

This rule is not significant under Executive Order (E.O.) 12866, Sec 3, “Regulatory Planning and Review,” therefore; E.O. 13771, “Reducing Regulation and Controlling Regulatory Costs” does not apply.

List of Subjects in 32 CFR Part 644

Administrative practice and procedure, Energy Department, Engineers Corps, Federal buildings and facilities, Flood control, Government employees, Government property, Military personnel, National Aeronautics and Space Administration, Public lands, Reservoirs, Rights-of-way, Surplus Government property, Water resources, Waterways.

PART 644—[REMOVED AND RESERVED]

Accordingly, for reasons stated in the preamble, under the authority of 5 U.S.C. 301 and 10 U.S.C. 3012, 32 CFR part 644 is removed and reserved.

Brenda S. Bowen,
Army Federal Register Liaison Officer.

[FR Doc. 2019-15513 Filed 7-19-19; 8:45 am]

BILLING CODE 5001-03-P